NUCLEAR REGULATORY COMMISSION

Agency Information Collection Activities: Proposed Collection; Comment Request

AGENCY: Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: DOE/NRC Form 742, “Material Balance Report;” NUREG/BR-0007, “Instructions for the Preparation and Distribution of Material Status Reports;” and DOE/NRC Form 742C, “Physical Inventory Listing.”

2. Current OMB approval number: 3150-0004 and 3150-0058.

3. How often the collection is required: DOE/NRC Forms 742 and 742C are submitted annually following a physical inventory of nuclear materials.

4. Who is required or asked to report: Persons licensed to possess specified quantities of special nuclear or source material.

5. The number of annual respondents:

DOE/NRC Form 742: 200 licensees.

DOE/NRC Form 742C: 180 licensees.

6. The number of hours needed annually to complete the requirement or request:

DOE/NRC Form 742: 150 hours.

DOE/NRC Form 742C: 1,080 hours.

7. Abstract: Each licensee authorized to possess special nuclear material totaling more than 350 grams of contained uranium-235, uranium-233, or plutonium, or any combination thereof, and any licensee authorized to possess 1,000 kilograms of source material is required to submit DOE/NRC Form 742. Reactor licensees required to submit DOE/NRC Form 742, and facilities subject to 10 CFR part 75, are required to submit DOE/NRC Form 742C. The information is used by NRC to fulfill its responsibilities as a participant in US/IAEA Safeguards Agreement and bilateral agreements with Australia and Canada, and to satisfy its domestic safeguards responsibilities.

Submit, by May 27, 2003, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC Worldwide Web site http://www.nrc.gov/public-involve/doc-comment/omb/index.html. The document will be available on the NRC home page site for 60 days after the signature date of this notice.

Comments and questions about the information collection requirements may be directed to the NRC Clearance Officer, Brenda Jo. Shelton, U.S. Nuclear Regulatory Commission, T-6 E6, Washington, DC 20555-0001, by telephone at (301) 415-7233, or by Internet electronic mail at INFOCOLLECTS@NRC.GOV.

Dated at Rockville, Maryland, this 21st day of March, 2003.
For the Nuclear Regulatory Commission.
Brenda Jo. Shelton,
NRC Clearance Officer, Office of the Chief Information Officer.

[FR Doc. 03-7338 Filed 3-26-03; 8:45 am]

BILLING CODE 7590-01-P